DEPARTMENT OF STATE

[Public Notice: 9829]

Executive Order (E.O.) 13224 Designation of Saleck Ould Cheikh Mohamedou aka Saleck Ould Cheikh as a Specially Designated Global Terrorist

Acting under the authority of and in accordance with section 1(b) of E.O. 13224 of September 23, 2001, as amended by E.O. 13268 of July 2, 2002, and E.O. 13284 of January 23, 2003, I hereby determine that the individual known as Saleck Ould Cheikh Mohamedou, also known as Saleck Ould Cheikh committed or poses a significant risk of committing, acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: November 23, 2016.
John F. Kerry,
Secretary of State.

[FR Doc. 2016-31196 Filed 12-23-16; 8:45 am]

BILLING CODE 4710-AD-P